DEPARTMENT OF HOUSING AND URBAN DEVELOPMENT

[Docket No. FR-4837-D-02]

Redelegations of Authority to the Office of Housing/Federal Housing Administration for Multifamily Housing Programs and Health Care Programs

AGENCY: Office of the Assistant Secretary for Housing-Federal Housing Commissioner, HUD.

ACTION: Notice of revocation and redelegation of authority for multifamily and health care programs.

SUMMARY: Published elsewhere in today's Federal Register, the Secretary of HUD issued an up-to-date comprehensive delegation of authority for housing and health care programs to the Assistant Secretary for Housing-Federal Housing Commissioner and the General Deputy Assistant Secretary for Housing-Deputy Federal Housing Commissioner. This notice advises the public of redelegations of authority for Multifamily Housing Programs from the Assistant Secretary to Office of Housing staff in the (1) Office of Multifamily Housing in Headquarters and in the Field, and (2) Office of Insured Health Care Facilities.

EFFECTIVE DATE: August 11, 2003.

FOR FURTHER INFORMATION CONTACT: Janet Golrick, Assistant Deputy Assistant Secretary for Office of Multifamily Housing, Office of Housing, Department of Housing and Urban Development, Room 6112, Washington, DC 20410, phone (202) 708-2495. (This is not a toll-free number. Persons with hearing or speech impairments may access this number through TTY number by calling the toll-free Federal Relay Service number at (800) 877-8339.

SUPPLEMENTARY INFORMATION: The organizational structure of the Office of Multifamily Housing, Office of Housing, has undergone substantial change over recent years. Office of Housing Headquarters personnel is primarily responsible for assisting the Assistant Secretary in developing policies and procedures for Office of Housing programs. On occasion, Headquarters will review and decide cases where, for example, novel issues have national implications.

A separate question concerns which positions within the Office of Housing should be redelegated the authority to bind the Department. While a number of HUD staff, reflecting a range of expertise, may participate in the decision-making process, performing such functions as gathering and assessing facts and making recommendations about the disposition of a transaction, only a relatively small number of managers, acting within the scope of their redelegated authority and applicable law, have independent authority through the delegation process to make binding decisions on behalf of HUD.

Accordingly, under this delegation, which supersedes all prior delegations to staff in the Office of Multifamily Housing and the Office of Insured Health Care Facilities, the Assistant Secretary is delegating very broad operating authority to a clearly defined universe of Office of Housing positions in Headquarters and in the field.

Section I. Multifamily Housing Programs: Office of Housing Organization

A. Office of Multifamily Housing—Headquarters

All Multifamily Housing managers in Headquarters and in the field report to the Deputy Assistant Secretary and Associate Deputy Assistant Secretary for Multifamily Housing. In Headquarters, there are five major Multifamily Housing offices, each of which is headed by a Director. These Offices and a general description of each are the following:

Office of Multifamily Housing Development

This Office develops and implements policies and guidelines for the loan origination aspects of the Federal Housing Administration (FHA) multifamily housing and health care mortgage insurance programs, excluding section 242 hospitals, from pre-application to final endorsement of the mortgage note. The Office is also responsible for Multifamily Accelerated Processing (MAP) and section 542 Risk-Sharing policies and procedures, including lender approval and lender monitoring. Housing Office staff provides technical guidance to the HUD/FHA multifamily housing field staff, the industry, and other Headquarters Offices.

Office of Asset Management

The Office of Asset Management is responsible for strategic planning, guidance, and oversight of HUD's multifamily housing portfolio of project assets after development and upon occupancy (multifamily housing properties consist primarily of rental housing properties with five or more dwelling units, such as apartments or town houses, but also include nursing homes, elderly housing, mobile home parks, retirement service centers, and, very occasionally, vacant land). The Office develops policy for, and oversees, field office asset management operations. The Office is responsible for oversight of regulated property ownership and management, routine mortgage servicing, default servicing, acquisition and/or disposition of loans and properties, and management of properties where the Secretary is owner or mortgagee-in-possession. The Office also has oversight for subsidy payments for the sections 202/811 elderly and disabled programs. The Office serves as Multifamily Housing's liaison with the Real Estate Assessment Center (REAC) and the Departmental Enforcement Center (DEC). The Office oversees field office and lender-servicing activities for HUD-involved properties. Through two field Property Disposition Centers, the Office oversees HUD management, ownership, and the sale of properties, which HUD owns by virtue of default and foreclosure, or for which HUD is mortgagee-in-possession. In support of asset management, the Office defines business requirements for automated systems development and modification.

Office of Housing Assistance and Grant Administration

The Office of Housing Assistance and Grant Administration is responsible for directing and overseeing housing assistance and competitive grant programs administered by the Office of Multifamily Housing Programs with its primary focus on production and development functions. Programs include project-based section 8 housing assistance, the section 202/811 Capital Advance Program, the section 531 Rehabilitation Program, Service Coordinators, Assisted Living Conversion, and Congregate Housing Services Programs.

Office of Housing Assistance Contract Administration Oversight

The Office of Housing Assistance Contract Administration Oversight is responsible for providing policies, procedures, guidelines, technical oversight, performance assessment, and compliance under the terms of the respective Annual Contributions Contracts for section 8 Contract Administrators (CA). The section 8 contract administration oversight by this Office provides that properties continue to meet the Department's standard of providing decent, safe, and sanitary housing to low-income families. Additionally, this Office is responsible for assuring the Department meets its financial obligations to owners as specified in the various subsidy contracts by ensuring availability of subsidy payments. The Office oversees ongoing funding of project-based assistance contracts, including contracts under section 8, Rent Supplement, and Rental Assistance Payments programs.

Office of Program Systems Management

The Office of Program Systems Management is responsible for the automated systems that support Multifamily Housing programs. The Office works with the other four Multifamily Offices to develop and enhance the systems used to support their respective programs.

B. Office of Multifamily Housing—Field Office Structure

The Field Office organization consists of 51 offices, including Hubs and Program Centers. In all, there are 18 Hubs. Each of the 18 Hubs also has a Program Center (referred to as the Projects Management Staff), co-located with the Hub. The Program Center administers programs for the immediate geographical area of the Hub, whereas the Hub oversees operations for the broader geographic area. There are 33 Program Centers, each of which reports to a Hub and is located elsewhere within the Hub's broader geographic jurisdiction.

The highest-ranking official in a Hub is the Hub Director. His or her immediate deputy is the Director of the Operations Staff (referred to in this notice as the Operations Officer). The Director of the Projects Management Staff (referred to in this notice as the Director of Project Management) reports to the Hub Director and oversees the work of the co-located Program Center. The head of a Program Center located outside of the Hub is the Program Center Director. The occupant of this position also reports to the Hub Director. (Note: In this notice, reference to “Program Center Directors” refers to both the aforementioned Director of Projects Management and the Directors of Program Centers located outside the Hub location).

The chart below identifies each Hub, Program Centers that report to it, and the geographic area that it serves.

Multifamily Housing Hub Structure
Hub | Program center | Geographic area serviced
Atlanta | Caribbean, Knoxville, Louisville, Nashville (Also, a Multifamily Property Disposition Center is located in Atlanta) | Georgia, Kentucky, Puerto Rico, Tennessee, Virgin Islands.
Baltimore | Richmond, Washington, DC | Maryland, Virginia, Washington, DC.
Boston | Hartford, Manchester, Providence | Connecticut, Maine, Massachusetts, New Hampshire, Rhode Island, Vermont.
Buffalo |  | NY State, except for NYC Metro Area.
Chicago | Indianapolis | Illinois, Indiana.
Columbus | Cleveland | Ohio.
Denver |  | Colorado, Montana, North Dakota, South Dakota, Utah, Wyoming.
Detroit |  | Michigan.
Fort Worth | Albuquerque, Houston, Little Rock, New Orleans, San Antonio (Also, a Multifamily Property Disposition Center is located in Fort Worth) | Arkansas, Louisiana, New Mexico, Texas.
Greensboro | Columbia | North Carolina, South Carolina.
Jacksonville | Birmingham, Coral Gables, Jackson | Florida, Alabama, Mississippi.
Kansas City | Des Moines, Oklahoma City, Omaha, St. Louis | Iowa, Kansas, Missouri, Nebraska, Oklahoma.
Los Angeles |  | Southern California.
Minneapolis | Milwaukee | Minnesota, Wisconsin.
New York City |  | New York City Metro Area.
Philadelphia | Charleston, Newark, Pittsburgh | Delaware, New Jersey, Pennsylvania, West Virginia.
San Francisco | Honolulu, Phoenix, Las Vegas | Arizona, Northern California, Hawaii, Nevada.
Seattle | Anchorage, Portland | Alaska, Idaho, Oregon, Washington.

In summary, certain Multifamily Housing Office managers in Program Centers, Hubs, and Headquarters, acting within the scope of their redelegated authorities and applicable law, have independent authority, through the delegation process, to make binding decisions on behalf of the Department. Program Center Directors report to Hub Directors who, in turn, report to the Deputy Assistant Secretary and the Associate Deputy Assistant Secretary for Multifamily Housing Programs.

C. Office of Insured Health Care Facilities (OIHCF)

The Office of Insured Health Care Facilities was created some twelve years ago for the express purpose of reviewing and approving mortgage insurance proposals for hospitals and to handle asset management and property disposition matters related to HUD's insured hospital portfolio. OIHCF also administers all matters under Title XI of the National Housing Act (mortgage insurance for group practice facilities). Prior to the creation of OIHCF, hospital mortgage insurance applications were processed within the Office of Multifamily Housing. However, because of underwriting and oversight issues unique to hospital care facilities, HUD determined to create this separate office with particular expertise in the health care area. Unlike the usual case where applications for mortgage insurance are submitted to the local Program Center, insurance proposals for hospitals are submitted to OIHCF in Headquarters. OIHCF staff is located in HUD Headquarters, although some staff is out-stationed to New York City. The Director and the Deputy Director of OIHCF report directly to the Assistant Secretary and the General Deputy Assistant Secretary for Housing. In making its determinations, OIHCF also oversees work performed by personnel in the Department of Health and Human Services (HHS), pursuant to a Memorandum of Agreement between the two departments. OIHCF also makes limited use of resources in the Office of Multifamily Housing's Field structure. In order to facilitate transactions in hospital insurance cases, certain authority is being delegated to Hub Directors in Multifamily Housing Field Offices. However, this authority may be exercised only pursuant to the prior direction or concurrence of the OIHCF Director.

Section II. Multifamily Housing Programs—Functions

The Office of Multifamily Housing is charged with carrying out duties of the Assistant Secretary and General Deputy Assistant Secretary for Housing, as they relate to multifamily programs set forth in HUD's governing legislation. This broad range of programs enables HUD, in concert with its partners from the private and public sectors, to provide safe, decent, and affordable multifamily housing to millions of American families. The programs include mortgage insurance, capital advances, grant programs, and some programs that assist communities in reducing crime. Some programs make access to assisted living facilities more affordable.

Note: Multifamily Housing programs and functions related thereto do not include activities performed by the Office of Housing under the Federal Housing Enterprises Financial Safety and Soundness Act of 1992 (FHEFSSA) (12 U.S.C. 4501 et seq). A separate Office within Housing, the Office of Government Sponsored Enterprise Regulatory Staff assists the Assistant Secretary in carrying out the provisions of the FHEFSSA.

Under this delegation, the Assistant Secretary redelegates broad program authority, with limited exceptions that are discussed in Section III. of this notice to the Deputy Assistant Secretary, the Associate Deputy Assistant Secretary, certain Multifamily Housing Directors in Headquarters and the Field, and the Director of the OIHCF.

Characterizing the authority that is being redelegated by the Assistant Secretary in broad or general terms will enable the Deputy Assistant Secretary, the Associate Deputy Assistant Secretary, and certain Directors to perform all functions necessary to accomplish Multifamily Program tasks and objectives.

In some past delegation notices, HUD has set forth, in “laundry list” fashion, the functions that are carried out by managers under generic function headings. Publishing detailed lists has proven problematic, as some listed items become obsolete over time, while others are omitted through oversight. Conversely, this delegation sets forth functions in general terms, while the preamble provides insights into the nature of the work performed by managers with delegated authority under each category. The basic Multifamily Housing functions and a brief description of each are as follows:

A. General Authority: This authority allows Office of Housing officials, in the Office of Multifamily Housing and in OIHCF, to sign any and all documents necessary to carry out the business, within their program and geographic jurisdictions. In addition, this authority allows such officials, when considering a proposal, to waive any directives, not mandated by statute or regulation, or reserved to Headquarters, for good cause and with a written justification.

B. Production: This function allows a manager with delegated authority to make all necessary determinations that relate to the FHA-insured mortgage underwriting process and the Risk-Sharing Programs. Essentially, this category of functions begins with a pre-application or application for mortgage insurance and ends with the Department's endorsement of an insured mortgage and related documentation. For all mortgage insurance programs, it includes, but is not limited to, such activities as determining the acceptability of project sites; issuing conditional or firm commitments for FHA insurance; issuing initial or final endorsements for FHA insurance; executing regulatory agreements; requiring corrective actions and escrow accounts as needed; and wherever applicable, directing the actions of HUD clients in connection with a project's development (e.g., authorizing a Housing Finance Agency to process risk sharing loans or to conduct a subsidy layering review). Similar production functions are performed in connection with capital advances for elderly persons (section 202) and persons with disabilities (section 811). For example, applications are reviewed and rated; funding awards are made; and regulatory agreements executed.

C. Asset Management: Functions carried out under this category involve HUD's continuing relationship with a multifamily project after it has been added to the HUD portfolio through either FHA mortgage insurance, co-insurance or risk-sharing programs, direct loan, capital advance or grant programs, or other subsidy programs, and combinations thereof. On-going decision-making relates to an insured or subsidized project's occupancy, operations, and physical and financial condition from the time of occupancy through financial disposition including but not limited to prepayment, repayment of the loan or end of the subsidy contract, foreclosure, and/or termination of the subsidy contract. In addition, functions involve the renewal of section 8 contracts and other project-based assistance, and imposing sanctions upon project owners that, for example, violate the terms of their regulatory agreement and/or section 8 housing assistance contracts.

D. Competitive Capital Advance Programs: Competitive programs within the Office of Multifamily Housing typically include those for the section 202 supportive housing for the elderly, section 811 supportive housing for persons with disabilities, service coordinators, and the assisted living conversion programs. In any given year, Congress may authorize additional or alternative programs. Office functions include developing the criteria for applications, rating and ranking applications, and executing capital advance and grant agreements. Once a grant is awarded, functions include monitoring compliance with the grant agreement, terminating a grant for non-compliance, modifying a grant, and closing out a grant. Once a capital advance has been awarded under the section 202 or section 811 programs, functions include processing a firm commitment application, initially closing the project, monitoring compliance with the construction contract, and finally closing the project once costs have been certified.

E. Program Demonstrations: Periodically, the Congress will enact legislation that authorizes HUD to conduct a multifamily housing program on a demonstration basis. The purpose of a demonstration is essentially to test the viability of a new program on a limited basis, e.g., by geography, case volume, or time. Functions related to demonstration programs include developing program criteria, implementing the program, monitoring activities and results, preparing any required reports to Congress, and closing out the program.

F. Property Disposition: Property disposition functions begin after HUD has made an initial decision to foreclose on a property. These functions include notifying an owner, and hearing and deciding an owner's appeal to the foreclosure determination; deciding the terms of and directing a foreclosure sale; accepting a deed-in-lieu of foreclosure, authorizing any work and related terms required by a project in advance of a sale; advertising a project for sale; approving disposition plans, sales documents, and purchasers; executing rental assistance contracts; and relocation of residents as may be necessary.

G. Coinsurance: HUD stopped accepting new applications for multifamily housing coinsurance in 1990. However, multifamily housing coinsurance program functions are still carried on in relation to the existing inventory, and include any and all actions necessary to carry out the program authorized under 12 U.S.C. 1715z-9. Functions also include authorizing second mortgage documents in partial-payment of claims cases, as well approving requests for the conversion of coinsurance to full mortgage insurance.

H. Portfolio Reengineering: The Portfolio Reengineering Demonstration Project was originally authorized in 1996 and most recently in 1998 under Title V of the Departments of Veterans Affairs and Housing and Urban Development, and Independent Agencies Appropriations Act, 1998 (Pub. L. 105-65). Although all cases under the program have been closed, there are certain actions remaining, such as final disbursements to joint venture partners, which will enable the program to be terminated.

I. Hospital Mortgage Insurance: Functions for the hospital mortgage insurance program cover the range of activities from the pre-commitment stage through property disposition. The functions include the same kinds of activities described above for the multifamily insurance program and fall within the generic categories of production, asset management, and property disposition.

J. Contract Administration Oversight/Funding: Functions in this area of contract administration oversight involve activities related to the award of the Contract Administration Contracts (Annual Contribution Contracts), assessment and assignment of section 8 contracts to the Performance-Based Contract Administrators (PBCAs), evaluation of PBCA performance, provision of technical assistance to PBCAs and prescription of any remedial actions needed to improve PBCA performance. Key functions also involve developing policies and procedures for field offices and coordinating efforts between the PBCAs and the local multifamily field office staff, monitoring, evaluating, and providing technical guidance relative to field activities, assuring that PBCAs provide data needed to evaluate their performance and the status of contracts they administer, and coordinating audit activities associated with section 8 Contract Administration.

Funding activities involve all budget and funding responsibilities associated with the Rental Assistance Programs (RAP) (i.e., section 8 but not sections 202/811, RAP, Rent Supplement, Project-Based section 8, and Service Coordinators), including both HUD and third-party administered contracts. Activities also include creating and approving administrative commitments for active contracts, determinations of funding levels, reservations of the subsidy based on funding availability, monitoring allotments as compared to annual appropriations, funding assignments against allotments, reservations compared to fund assignments, and actual reservations versus estimated activity. Additional functions include monitoring the timely payment of section 8 housing assistance to administrators and project owners in cooperation with the section 8 Financial Management Center (FMC) and the accounting staff in the Office of the Chief Financial Officer. The work with the FMC primarily focuses on the impact of funding and payment when initiating conversions from HUDCAPS to LOCCS. The funding area also works with the Department's budget and accounting organizations to generate budget authority estimates for the above-referenced subsidy programs, develop procedures for funding and payment processes, and systems integration to support the data. Another function is to liaison and coordinate with counterpart staff in the field offices to provide training and guidance, and to assure that funds are obligated and contracted.

Section III. Multifamily and Health Care Programs—Summary of Delegations

As noted above, in order to efficiently administer the business of multifamily housing, the Assistant Secretary is delegating broad authority to clearly identified positions within the Office of Multifamily Housing in Headquarters and the Field, and to the Director and Deputy Director of OIHCF. Delegations in relation to four programs are being afforded exceptional treatment. These programs are the property disposition program, coinsurance program, portfolio restructuring program, and the mortgage insurance program for hospitals. This section contains a general discussion of delegations for all multifamily programs. The authority actually delegated is set forth in section V below.

A. Headquarters—Office of Multifamily Housing: Inasmuch as the Deputy Assistant Secretary and the Associate Deputy Assistant Secretary oversee the operations of the Office of Multifamily Housing, each is being delegated authority to conduct all business related to multifamily programs, with limited exceptions. The Deputy Assistant Secretary and Associate Deputy Assistant Secretary will not be delegated any authority to perform functions under the mortgage insurance program for hospitals. The Director and Deputy Director of OIHCF will administer that program. Only the Assistant Secretary or a person acting in the position of the Assistant Secretary can issue or waive a regulation.

Headquarters Directors will also be delegated authority appropriate to their particular subject matter jurisdictions. These directors typically assist the Deputy Assistant Secretary in developing the policies, guidance, and procedures pursuant to which multifamily programs are conducted. Although requests related to individual projects ordinarily originate and are decided in the Field, in unique cases or cases that have national implications, require novel interpretations of policy, or have extraordinary monetary or other significance, Headquarters Office Directors may elect to review and decide. The Assistant Secretary is redelegating authority to Headquarters directors to enable them to function efficiently in these kinds of circumstances.

The Director of the Office of Multifamily Housing Development will be delegated the authority to perform all program functions summarized in section II.A. (General), section II.B (Production), and section II.E (Program Demonstrations), for the FHA mortgage insurance programs and Risk-Sharing.

The Director of the Office of Asset Management will be delegated the authority to perform all program functions in section II.A. (General), section II.C. (Asset Management), section II.D. (Competitive Capital Advance Programs), section II.E. (Program Demonstrations), section II.F. (Property Disposition), section II.G. (Coinsurance), and section II.H. (Portfolio Reengineering).

The Director of the Office of Housing Assistance and Grant Administration will be delegated the authority to perform program functions in section II. A (General), and section II.D. (Competitive Capital Advance Program).

The Director of the Office of Housing Assistance Contract Administration Oversight will be delegated the authority to perform all program functions summarized in section II.A. (General), section II.J. (Contract Administration Oversight/Funding).

The responsibilities of the remaining Director in Headquarters (the Office of Program Systems Management) are such that no delegations are required.

B. Field Offices—Office of Multifamily Housing: As a general rule, actions involving individual projects that come to the Department are considered and decided by Housing officials at the Field Office level. Managers who work at or near the location of a proposal are ordinarily best suited to assess the needs of the community and, within that context, the merits of a proposal. Accordingly, Field Office managers require broad delegations of authority. Authority will be delegated to each Hub Director and each Hub Operations Officer to perform, within the full geographic jurisdiction of the Hub, all of the functions described in sections II.A. through E. of this notice (i.e., functions related to General Authority; Production; Asset Management; Competitive Capital Advance Program; and Program Demonstrations). Special treatment is afforded to two program areas, i.e., property disposition and coinsurance.

Property Disposition: Authority to exercise property disposition functions (section II.F. above) will be delegated only to the Director for the Property Disposition Center in the Atlanta, Georgia Hub and the Fort Worth, Texas Hub. To maximize efficiencies, the Office of Housing has concentrated relevant resources and expertise in these two Hubs that conduct property disposition activities for the entire United States.

Coinsurance: Authority to exercise asset management functions for HUD's coinsured portfolio is delegated to the Hub Director, Operations Officer, and the Program Center Director in the Greensboro, North Carolina Hub only. As noted, no new coinsurance activity is allowable and the staff and resources have been concentrated in Greensboro to handle all matters related to the extant coinsurance portfolio.

Hospital Mortgage Insurance Program: Property disposition functions are being delegated to the Hub Director, Operations Officer, and the Program Center Director in the Atlanta and Fort Worth Hubs. Certain Field Office managers will be delegated authority to sign closing documents for the final insurance endorsement of a mortgage loan. Also, Field staff will perform services (e.g., environmental reviews) in support of program determinations made by OIHCF.

C. Office of Insured Health Care Facilities: The OIHCF Director and Deputy Director will be delegated all of the authority in section II.A (General) and section II.I (Hospital Insurance Program Functions), other than the authority to authorize commitments for mortgage insurance. The Director and Deputy Director can only issue a commitment, subject to the prior authorization of the Assistant Secretary for Housing-Federal Housing Commissioner.

Section IV. Futher Redelegations

The authority being redelegated by the Assistant Secretary and General Deputy Assistant Secretary may not be further redelegated by Office of Multifamily Housing managers in Headquarters and the Field, except by Hub Directors, in the two circumstances described herein. Ordinarily, if an official is, for any reason, unable to perform duties, another official will act in his or her stead during that period, pursuant to a written, specific delegation of authority or office order of succession. However, workload or other demands in a particular Hub, at any given time, may require the Hub Director to redelegate authority to staff in the Hub or a Program Center.

Accordingly, to ensure the smooth flow of business, the Hub Director will be permitted to delegate authority (other than that to issue waivers of directives, or conditional and firm mortgage loan insurance commitments or endorse FHA notes) to, or withdraw it from, any Supervisory Project Manager(s) and Senior Project Managers under his or her jurisdiction. Supervisory and Senior Project Managers are senior staff that typically perform complex and significant duties in connection with multifamily housing transactions. These delegations need not be published in the Federal Register, but must be in writing and available for public inspection at the (involved) Hub, Program Center(s), and Washington, DC Headquarters Office of Multifamily Housing.

Another circumstance may arise in relation to a particular transaction where, for example, because of particular expertise or workload demands, another HUD employee may be required to perform the involved functions. In such an event, the Hub Director redelegating the authority will do so in writing, describing the particular transaction and duties to be performed. This specific delegation will not be published. The delegation will, however, be made a part of the record of the transaction, so that parties to the transaction know that the HUD official performing the function is duly authorized to carry out the prescribed duties.

Section V. Multifamily Housing Programs And Health Care Programs—Authority Redelegated

The Assistant Secretary for Housing-Federal Housing Commissioner and the General Deputy Assistant Secretary for Housing-Deputy Federal Housing Commissioner retain and redelegate, (1) to the Deputy Assistant Secretary for the Office of Multifamily Housing Programs and Associate Deputy Assistant Secretary and (2) through the Deputy Assistant Secretary and Associate Deputy Assistant Secretary, to the Headquarters Office Directors listed below, and (3) through the Headquarters Office Directors, to the Headquarters and Field Office managers listed below, and (4) to the Director of the Office of Insured Health Care facilities, the power and authority described as follows:

A. Deputy Assistant Secretary and Associate Deputy Assistant Secretary of the Office of Multifamily Housing Programs: Authority is redelegated, on a nationwide basis, to take all actions necessary to conduct all multifamily housing programs, other than the mortgage insurance program for hospitals, including but not limited to, the exercise of the following functions:

(1) The general power to modify and sign any documents necessary to perform enumerated functions and to waive any directive that is not mandated by a statute or regulation;

(2) All production functions related to mortgage insurance, capital advance, risk-sharing, or other programs;

(3) All asset management functions related to mortgage insurance, grant, or other programs;

(4) All functions necessary to carry out competitive capital advance programs;

(5) All functions necessary to carry out a program conducted on a demonstration basis;

(6) All property disposition functions;

(7) All functions necessary to the conduct of the multifamily coinsurance program;

(8) All functions necessary to the conduct of the portfolio reengineering program, re-authorized under Title V of the Departments of Veterans Affairs and Housing and Urban Development, and Independent Agencies Appropriations Act of 1998 (Public Law 106-65); and

(9) All functions necessary to the conduct of section 8 contract administration oversight/funding.

B. Director, Office of Multifamily Development: Authority is redelegated, on a nationwide basis, to take all actions necessary to conduct all multifamily housing programs other than the mortgage insurance program for hospitals, in relation to the following functions:

(1) The general power to sign any documents necessary to perform enumerated functions and to waive any directive that is not mandated by a statute or regulation;

(2) All production functions related to mortgage insurance or risk-sharing programs;

(3) All functions necessary to carry out a program conducted on a demonstration basis.

C. Director, Office of Asset Management: Authority is redelegated, on a nationwide basis, to take all actions necessary to conduct all multifamily housing programs, other than the mortage insurance program for hospitals, in relation to the following functions:

(1) The general power to sign any documents necessary to perform enumerated functions and to waive any directive that is not mandated by a statute or regulation;

(2) All asset management functions related to mortgage insurance, loans, capital advances, or grants or other programs, except functions related to the renewal of Section 8 contracts and other project-based assistance;

(3) All functions necessary to carry out competitive capital advance programs;

(4) All functions necessary to carry out a program conducted on a demonstration basis;

(5) All property disposition functions;

(6) All functions necessary to conduct the multifamily coinsurance program; and

(7) All functions necessary to conduct the portfolio reengineering program, re-authorized under Title V of the Department of Veterans Affairs and Housing and Urban Development, and Independent Agencies Appropriations Act of 1998.

D. Director, Office of Housing Assistance and Grant Administration: Authority is redelegated, on a nationwide basis, to take all actions necessary to conduct:

(1) The general power to sign any documents necessary to perform enumerated functions and to waive any directive that is not mandated by a statute or regulation;

(2) All functions necessary to carry out competitive capital advance programs; and

(3) Only asset management functions related to the renewal of Section 8 contracts and other project-based assistance.

E. Director, Office of Housing Assistance Contract Administration Oversight:

Authority is redelegated, on a nationwide basis, to take all actions necessary to conduct the business of Section 8 Contract Administration and funding Rental Assistance Programs as designated in Section II, in relation to the following functions:

(1) The general power to sign any documents necessary to perform enumerated functions and waive any directive that is not mandated by a statute or regulation; and

(2) All functions related to Section 8 Contract Administration and funding.

F. All Hub Directors, Operations Officers, and Program Center Directors: The authority redelegated authorizes these officials to take all actions necessary to the conduct of all multifamily programs, not including the property disposition program, coinsurance program, portfolio reengineering program and, except as noted in the specific delegations below, the hospital and Title XI mortgage insurance programs. The authority is further limited in that it may only be exercised within each official's authorized geographic jurisdiction. Accordingly, the Hub Directors and Operations Officers may exercise the functions enumerated herein with the full geographic jurisdiction of their respective Hubs, that includes all Program Center areas under their respective jurisdictions. The Hub Director for Project Management may only exercise the authority within the immediate “program center” jurisdiction of the Hub. The Program Center Director may only exercise the authority within the geographic jurisdiction of the Program Center. The authority redelegated permits the exercise of the following functions:

(1) The general power to modify and sign any documents necessary to perform enumerated functions and to waive any directive that is not mandated by statute or regulation;

(2) All production functions related to mortgage insurance, grant, or other multifamily housing insurance programs, and to endorse notes for mortgage insurance for loans issued under the hospital mortgage insurance program and Title XI mortgage insurance program;

(3) All asset management functions related to mortgage insurance, grant, or other programs, except for the authority to issue (a) a notice of violation and/or notice of default under a regulatory agreement and (b) a notice of default, abatement, termination and/or redirection under a housing assistance contract (except that a HUB Director can issue a notice of abatement and, subsequently, a notice of termination under the terms of a housing assistance contract);

(4) All functions necessary to carry out competitive capital advance programs; and

(5) All functions necessary to carry out a program conducted on a demonstration basis.

G. Directors for Property Disposition Centers in the Atlanta, Georgia and Fort Worth, Texas Hubs Only: Authority is redelegated, on a nationwide basis, to take all actions and perform all functions, including signing any documents in furtherance thereof and issuing waivers of directives not mandated by statute or regulation, necessary to conduct the multifamily property disposition program.

H. Hub Director, Operations Officer, and Program Center Director for the Greensboro, North Carolina Hub Only: Authority is redelegated, on a nationwide basis, to take all actions and to perform all functions, including signing any documents in furtherance thereof and issuing waivers of directives not mandated by statute or regulation, necessary to the conduct of the multifamily coinsurance program.

I. Hub Directors, Operations Officers, and Directors for Project Management in Buffalo, New York, Philadelphia, Pennsylvania, Atlanta, Georgia, Jacksonville, Florida, Columbus, Ohio, Fort Worth, Texas, Kansas City, Kansas, Denver, Colorado, San Francisco, California, and Seattle, Washington, and the Program Center Directors in Pittsburgh, Pennyslvania, Cleveland, Ohio, Houston, Texas, and Oklahoma City, Oklahoma Only: Authority is redelegated, on a nationwide basis, to take all actions and perform all functions, including signing documents in furtherance thereof and issuing waivers of directives not mandated by statute or regulation, necessary to conduct of the portfolio reengineering program authorized under Title V of the Department of Veteran Affairs and Housing and Urban Development, and Independent Agencies Appropriations'Act, 1998 (Public Law 106-65).

J. Director, Office of Insured Health Care Facilities: Authority is redelegated, on a nationwide basis, to take all actions necessary to the conduct of the mortgage insurance program for hospitals including the exercise of the following functions:

(1) The general power to sign any documents necessary to perform enumerated functions and to waive any directive that is not mandated by a statute or regulation;

(2) All production functions, except that the authority to authorize commitments for mortgage insurance is subject to the prior authorization of the Assistant Secretary;

(3) All asset management functions; and

(4) All property disposition functions.

Section VI. Authority Excepted

The authority redelegated in Sections V.A through J, does not include authority to issue or waive regulations, or to implement the authority contained in the Federal Housing Enterprises Financial Safety and Soundness Act of 1992 (12 U.S.C. 4501 et seq.).

Section VII. Further Redelegations

The authority redelegated by the Assistant Secretary for Housing-Federal Housing Commissioner and the General Deputy Assistant Secretary-Deputy Federal Housing Commissioner may not be further redelegated by the officials identified in Sections V.A through J, except that a Hub Director may (1) redelegate to, or withdraw from, any Supervisory Project Manager(s) or Senior Project Managers within his or her geographic jurisdiction, any of the authority delegated to him or her under this notice, except the authority to issue waivers, or FHA conditional or firm mortgage insurance commitments, and to endorse FHA notes for insurance. Any such delegation, or withdrawal thereof, need not be published in the Federal Register, but shall be in writing and maintained for public inspection in the Hub, affected Program Center(s), and the Washington, DC Headquarters Office of Multifamily Housing; and (2) issue a specific delegation in writing, to a HUD employee for the exercise of functions in relation to a particular transaction or transactions. The specific delegation need not be published in the Federal Register but must identify the transaction(s); scope of delegated functions; and be made part of the record of the transaction(s) so that all parties thereto will have notice that the authorizing HUD official is duly authorized to carry out the prescribed duties. If work is transferred from one Hub to another, the delegation must also be approved in writing by the Deputy Assistant Secretary or Associate Deputy Assistant Secretary for Multifamily Programs.

Section VIII. Revocation of Delegations

All prior redelegations of authority from the Assistant Secretary for Housing-Federal Housing Commissioner to staff in the Office of Multifamily Housing and in the OIHCF are hereby revoked and/or superseded. The Assistant Secretary for Housing-Federal Housing Commissioner or the General Deputy Assistant Secretary for Housing-Deputy Federal Housing Commissioner may, at any time, revoke any of the authority redelegated herein. Notice of any revocation will be published in the Federal Register.

Authority: Section 7(d), Department of Housing and Urban Development Act (42 U.S.C. 3535(d)).

Dated: August 11, 2003.
John C. Weicher,
Assistant Secretary for Housing-Federal Housing Commissioner.

[FR Doc. 03-21240 Filed 8-19-03; 8:45 am]

BILLING CODE 4210-27-P